ENVIRONMENTAL PROTECTION AGENCY

[FRL-7850-1]

Notice of Availability of Draft National Pollution Discharge Elimination System (NPDES) General Permits MAG910000 and NHG910000 for Discharges From Groundwater Remediation and Miscellaneous Surface Water Discharge Activities in the States of Massachusetts and New Hampshire and Indian Country Lands in the State of Massachusetts

AGENCY: Environmental Protection Agency (EPA).

ACTION: Notice of Availability of Draft NPDES General Permits MAG910000 and NHG910000: Extension of Comment Period.

SUMMARY: On Friday, November 2, 2004, the Environmental Protection Agency's New England Regional Office (EPA-NE) published a Notice of Availability for the Draft National Pollutant Discharge Elimination System (NPDES) General Permits MAG910000 and NHG910000 for Discharges from Groundwater Remediation and Miscellaneous Surface Water Discharge Activities in the States of Massachusetts and New Hampshire and Indian Country Lands in the State of Massachusetts in the Federal Register (69 FR 63531). In response to requests from sources that may be eligible for coverage under these general permits, EPA-NE is extending the comment period for these permits.

DATES: The comment period is being extended from December 17, 2004, to January 18, 2005. Comments must be received or postmarked by midnight on January 18, 2004. Interested persons may submit comments on the draft general permit as part of the administrative record to the EPA-NE at the address given below. Within the comment period, interested persons may also request in writing a public hearing pursuant to 40 CFR 124.12 concerning the draft general permit. Such requests shall state the nature of the issues proposed to be raised at the hearing. A public hearing may be held at least thirty days after public notice whenever the Regional Administrator finds that response to this notice indicates significant public interest. In reaching a final decision on the draft permits, the Regional Administrator will respond to all significant comments and make responses available to the public at EPA-NE's Boston office. All public comments or requests for a public hearing must be submitted to the address below.

ADDRESSES: Written comments may be hand delivered or mailed to: Roger A. Janson, Director, Municipal Permits Branch (CMP), EPA-NE, 1 Congress Street, Suite 1100, Boston, Massachusetts 02114-2023.

EPA also requests that comments be sent via e-mail to Rapp.Steve@EPA.GOV. However, no facsimiles (faxes) will be accepted. A copy of all comments and supporting materials should also be submitted to:

In MA: Mr. Paul Hogan, NPDES Permit Unit, MA Dept. of Env. Protection, 627 Main Street, Worcester, MA 01608.

In NH: Mr. George Berlandi, NH Dept. of Env. Services, Wastewater Engineering Bureau, 29 Hazen Drive, P.O. Box 95, Concord, NH 03302-0095.

The draft permit is based on an administrative record available for public review at the EPA address listed above. Copies of information in the record are available upon request. A reasonable fee may be charged for copying.

FOR FURTHER INFORMATION CONTACT: Additional information concerning the draft permit may be obtained between the hours of 8 a.m. and 4 p.m., Monday through Friday excluding holidays from: Steven Rapp, Office of Ecosystem Protection, Environmental Protection Agency, 1 Congress Street, Suite 1100 (CPE), Boston, MA 02114-2023, telephone: (617) 918-1551, e-mail: Rapp.Steve@EPA.GOV.

SUPPLEMENTARY INFORMATION: The draft general permits may be viewed over the Internet via the EPA-Region 1 Web site. For dischargers in Massachusetts, see http://www.epa.gov/ne/npdes/mass.html#dgp. For dischargers in New Hampshire, see http://www.epa.gov/ne/npdes/newhampshire.html#dgp.

Dated: December 8, 2004.
Robert W. Varney,
Regional Administrator, Region 1.

[FR Doc. 04-27666 Filed 12-16-04; 8:45 am]

BILLING CODE 6560-50-P